NUCLEAR REGULATORY COMMISSION

10 CFR Part 73

[NRC-2024-0167]

Law Enforcement Response in Power Reactor Physical Protection Programs

In proposed rule 2025-974 beginning on page 5743 in the issue of Friday, January 17, 2025 make the following correction:

On page 5744, in the third column, under the heading “III. Proposed Interpretation”, in the second line “§ 3.55(b)(1) through (3),” should read “§ 73.55(b)(1) through (3),”.

[FR Doc. C1-2025-00974 Filed 1-30-25; 8:45 am]

BILLING CODE 1505-01-D